DEPARTMENT OF THE INTERIOR

Bureau of Land Management

[WO-310-1310-01-24 1A]

Extension of Approved Information Collection, OMB Number 1004-0132

AGENCY: Bureau of Land Management, Interior.

ACTION: Notice and request for comments.

SUMMARY: In accordance with the Paperwork Reduction Act of 1995, the Bureau of Land Management (BLM) announces its intention to request renewal of an existing approval to collect certain information from entities interested in the development of geothermal steam resources on lands managed by BLM. The information to be collected concerns data submitted by geothermal lessees and operators issues for agency approval of specific or additional operations on a well and to report the completion or progress of the additional work. This information allows BLM to approve proposed operations and ensure compliance with granted approvals.

DATES: Comments on the proposed information collection must be received by October 17, 2000.

ADDRESSES: Comments may be mailed to: Regulatory Affairs Group (630), Bureau of Land Management, 1849 C Street NW, Room 104LS, Washington, D.C. 20240.

Comments may be sent via Internet to: WOComment@blm.gov. Please include “ATTN: 1004-0132” and your name and return address in your internet message.

You may hand-deliver comments to the Bureau of Land Management, Administrative Board, Room 401, 1620 L Street, NW., Washington, D.C.

BLM will make comments available for public review at the L Street address during regular business hours (7:45 a.m. to 4:15 p.m.), Monday through Friday.

FOR FURTHER INFORMATION CONTACT: Barbara Gamble, Fluids Minerals Group, (202) 452-0338.

SUPPLEMENTARY INFORMATION: In accordance with 5 CFR 1320.12(a), BLM is required to provide 60-day notice in the Federal Register concerning a collection of information contained in 43 CFR Part 3260 to solicit comments on (a) whether the proposed collection of information is necessary for the proper performance of the functions of the agency, including whether the information will have practical utility; (b) the accuracy of the agency's estimate of the burden of the proposed collection of information, including the validly of the methodology and assumptions used; (c) ways to enhance the quality, utility, and clarity of the information to be collected; and (d) ways to minimize the burden of the collection of information on those who are to respond, including the use of appropriate automated, electronic, mechanical, or other technological collection techniques or other forms of information technology. BLM will receive and analyze any comments sent in response to this notice and include them with its request for approval from the OMB under 44 U.S.C. 3501 et seq.

The Geothermal Steam Act of 1970 authorizes the Secretary of the Interior to issue leases and prescribe regulations so that geothermal resources on certain Federal may be developed and used. Tribal lands may also be involved under the Indian Mineral Development Act. The Bureau of Land Management supervises operations of the leases granted under this authority by the regulations set forth in 43 CFR Part 3260. The regulations contain information collection requirements that are needed to grant the lessees permit to perform specific operations and to report the completion and progress of such work. Specifically, the regulations requires operators to submit a Geothermal Drilling Permit (Form 3260-2); a Geothermal Sundry Notice (Form 3260-3); a Geothermal Well Completion Report (Form 3260-4); and a Monthly Report of Geothermal Operations (Form 3260-5).

All data is mailed or delivered to BLM by the lessee of record, a designated operator, or an approved agent acting in behalf of the lessee or operator. The data pertains to conducting or modifying operations under the terms and provisions of a Federal geothermal lease or an Indian geothermal contract. The information enables BLM to approve any geothermal exploration or modifications to existing wells.

While some of the identification elements requested on these forms are common, for example, well location, unit agreement name, etc., they are needed on each form to avoid confusions and to eliminate the likelihood of one well being mistaken for another. Restructuring these elements to a coded alphanaumeric system would interject an additional layer of complexity without saving time or reducing burden.

Form 3260-2, Geothermal Drilling Permit

This is a permit to drill, redrill, deepen or plug back a well on Federal lands. It provides a basis for evaluating the proposed well's feasibility and determining whether the application should be disapproved or approved; and, if approved, whether any special conditions of approval should be made part of the permit. Without the information, there would be no assurance that drilling and associated activities, when and if authorized, are technically and environmentally feasible and ensure proper conservation of the resources.

Form 3260-3, Geothermal Sundry Notice

The sundry notice is required for planned well work or change of plans previously approved, road site and facilities construction and miscellaneous activities related to other previously approved operations. A subsequent report of the work performed must also be filed. Without this information, BLM cannot adequately evaluate the feasibility and environmental impacts of the proposed activity.

Form 3260-4, Geothermal Well Completion Report

The well completion report is used to obtain information on a complete and accurate log and history, in chronological order, of all operations conducted on the well. The logs are kept by lessees as normal, routine procedures and are not imposed as an additional requirement by BLM. This information is used to facilitate future operations, protect water supplies and Federal geothermal resources, and to allow accurate appraisal of down-hole conditions related to proper management of the resource.

Form 3260-5, Monthly Report of Geothermal Operations

The form is used to obtain information for monthly production for royalty reporting and production verification from geothermal wells. BLM uses the report to monitor the technical aspects of drilling, production, and injection activities for each well. The information is required on a monthly basis because of a direct link to royalty payments due from the lessee on a monthly basis and the associated production verifications. Without this information BLM could not adequately evaluate activity and performance of non-abandoned wells and production facilities for individual leases. This includes drilling and other well operations and engineering data for individual well production and injection. The lessee also reports any environmental monitoring conducted.

Based on our experience administering the activities on geothermal leases where there are active operations, the public burden for the information collected is estimated to average 1 to 10 hours, depending on which form is submitted. Respondents are lessees and operators of Federal geothermal leases and Indian geothermal contracts subject to BLM oversight. We estimate that approximately 760 permits, notices, and reports will be filed annually. We estimate the total annual burden on new respondents is 1,700 hours. BLM is specifically requesting your comments on its estimate of the amount of time that it takes to prepare a responses. The estimates are summarized in the table below.

Information collection (43 CFR) | Form number/title | Responses | Hours per response | Burden hours | Frequency
3264.2 | 3260-2, Geothermal drilling permit | 60 | 10 | 600 | Nonrecurring.
3264.2-2 | 3260-3, Geothermal sundry notice | 100 | 1 | 100 | On occasion.
3262.5-1, 3264.2-3 | 3260-4, Geothermal well completion report | 200 40 | 2 6 | 400 240 | On occasion.
3264.2-4, 3265.2-5 | 3260-5, Monthly report of geothermal operations | 360 | 1 | 360 | Monthly.
Totals |  | 760 |  | 1,700 |

Any interested member of the public may request and obtain, without charge, a copy of Forms 3260-2, 3260-3, 3260-4, and 3260-5 by contacting the person identified under FOR FURTHER INFORMATION CONTACT.

BLM will summarize all responses to this notice and include them in the request for Office of Management and Budget approval. All comments will also become a matter of public record.

Dated: August 15, 2000.
Shirlean Beshir,
BLM Information Clearance Officer.

[FR Doc. 00-21109 Filed 8-17-00; 8:45 am]

BILLING CODE 4310-84-M